DEPARTMENT OF COMMERCE

National Oceanic and Atmospheric Administration

RIN 0648-XG188

Fisheries of the South Atlantic; South Atlantic Fishery Management Council; Public Meeting

AGENCY: National Marine Fisheries Service (NMFS), National Oceanic and Atmospheric Administration (NOAA), Commerce.

ACTION: Notice of meeting of the South Atlantic Fishery Management Council's (Council) Habitat Protection and Ecosystem-Based Management (Habitat) Advisory Panel (AP).

SUMMARY: The South Atlantic Fishery Management Council will hold a meeting of its Habitat AP in North Charleston, SC. The meeting is open to the public.

DATES: The meeting will be held on Tuesday, May 15, 2018, from 9 a.m. to 4 p.m. Wednesday, May 16, 2018, from 9 a.m. to 4 p.m.

ADDRESSES:

Meeting address: The meeting will be held at the Crowne Plaza, 4831 Tanger Outlet Blvd., Charleston, SC 29418; phone: (843) 744-4422.

Council address: South Atlantic Fishery Management Council, 4055 Faber Place Drive, Suite 201, N. Charleston, SC, 29405.

FOR FURTHER INFORMATION CONTACT: Kim Iverson, Public Information Officer, South Atlantic Fishery Management Council, 4055 Faber Place Drive, Suite 201, N. Charleston, SC, 29405; phone: (843) 571-4366 or toll free: (866) SAFMC-10; fax: (843) 769-4520; email: kim.iverson@safmc.net.

SUPPLEMENTARY INFORMATION:

Items to be addressed or sessions to be conducted during this meeting include: Fishery Ecosystem Plan (FEP) II Dashboard, FEP II Implementation Plan and Roadmap, and links and tools; policy/threat matrix development; renewable energy development; NOAA Fisheries Ecosystem activities (developing South Atlantic Ecosystem Status Report and Regional Action Plan for Climate); ocean observing needs; habitat conservation in fishery management plans; marine aquaculture; and regulation adjustments.

Members of the AP will discuss items and provide recommendations as appropriate.

Special Accommodations

These meetings are physically accessible to people with disabilities. Requests for auxiliary aids should be directed to the Council office (see ADDRESSES) 3 days prior to the meeting.

Note: The times and sequence specified in this agenda are subject to change.

Dated: April 19, 2018.
Tracey L. Thompson,
Acting Deputy Director, Office of Sustainable Fisheries, National Marine Fisheries Service.

[FR Doc. 2018-08503 Filed 4-23-18; 8:45 am]

BILLING CODE 3510-22-P